SECURITIES AND EXCHANGE COMMISSION

[File No. 500-1]

Nikron Technologies, Inc.; Order of Suspension of Trading

February 16, 2012.

It appears to the Securities and Exchange Commission that there is a lack of current and accurate information concerning the securities of Nikron Technologies, Inc. (“Nikron”) because of possible manipulative conduct occurring in the market for the company's stock. Nikron is quoted on OTC Link operated by OTC Markets Group, Inc. under the ticker symbol “NKRN.”

The Commission is of the opinion that the public interest and the protection of investors require a suspension of trading in the securities of the above-listed company.

Therefore, it is ordered, pursuant to Section 12(k) of the Securities Exchange Act of 1934, that trading in the securities of the above-listed company is suspended for the period from 9:30 a.m. EST, on February 16, 2012 through 11:59 p.m. EST, on March 1, 2012.

By the Commission.
Elizabeth M. Murphy,
Secretary.

[FR Doc. 2012-4044 Filed 2-16-12; 4:15 pm]

BILLING CODE 8011-01-P